INTERNATIONAL TRADE COMMISSION

[Investigation No. 731-TA-1742 (Preliminary)]

Lattice-Boom Crawler Cranes (LBCCs) From Japan

Determination

On the basis of the record ¹ developed in the subject investigation, the United States International Trade Commission (“Commission”) determines, pursuant to the Tariff Act of 1930 (“the Act”), that there is a reasonable indication that an industry in the United States is materially injured by reason of imports of lattice-boom crawler cranes (“LBCCs”) from Japan, provided for in subheading 8426.49.00 of the Harmonized Tariff Schedule of the United States, that are alleged to be sold in the United States at less than fair value (“LTFV”).²

¹ The record is defined in § 207.2(f) of the Commission's Rules of Practice and Procedure (19 CFR 207.2(f)).

² 90 FR 15989 (April 16, 2025).

Commencement of Final Phase Investigation

Pursuant to § 207.18 of the Commission's rules, the Commission also gives notice of the commencement of the final phase of its investigation. The Commission will issue a final phase notice of scheduling, which will be published in the Federal Register as provided in § 207.21 of the Commission's rules, upon notice from the U.S. Department of Commerce (“Commerce”) of an affirmative preliminary determination in the investigation under section 733(b) of the Act, or, if the preliminary determination is negative, upon notice of an affirmative final determination in that investigation under section 735(a) of the Act. Parties that filed entries of appearance in the preliminary phase of the investigation need not enter a separate appearance for the final phase of the investigation. Any other party may file an entry of appearance for the final phase of the investigation after publication of the final phase notice of scheduling. Industrial users, and, if the merchandise under investigation is sold at the retail level, representative consumer organizations have the right to appear as parties in Commission antidumping investigations. The Secretary will prepare a public service list containing the names and addresses of all persons, or their representatives, who are parties to the investigation. As provided in § 207.20 of the Commission's rules, the Director of the Office of Investigations will circulate draft questionnaires for the final phase of the investigation to parties to the investigation, placing copies on the Commission's Electronic Document Information System (EDIS, https://edis.usitc.gov), for comment.

Background

On April 10, 2025, the Manitowoc Company, Inc., Milwaukee, WI filed a petition with the Commission and Commerce, alleging that an industry in the United States is materially injured or threatened with material injury by reason of LTFV imports of LBCCs from Japan. Accordingly, effective April 10, 2025, the Commission instituted antidumping duty investigation No. 731-TA-1742 (Preliminary).

Notice of the institution of the Commission's investigation and of a public conference to be held in connection therewith was given by posting copies of the notice in the Office of the Secretary, U.S. International Trade Commission, Washington, DC, and by publishing the notice in the Federal Register of April 16, 2025 (90 FR 15989). The Commission conducted its conference on May 1, 2025. All persons who requested the opportunity were permitted to participate.

The Commission made this determination pursuant to section 733(a) of the Act (19 U.S.C. 1673b(a)). It completed and filed its determination in this investigation on May 27, 2025. The views of the Commission are contained in USITC Publication 5634 (June 2025), entitled “Lattice-Boom Crawler Cranes (LBCCs) from Japan: Investigation No. 731-TA-1742 (Preliminary).”

By order of the Commission.
Issued: May 27, 2025.
Lisa Barton,
Secretary to the Commission.

[FR Doc. 2025-09861 Filed 5-30-25; 8:45 am]

BILLING CODE 7020-02-P